FEDERAL COMMUNICATIONS COMMISSION

[OMB Control Number 3060-xxxx; FR ID 275222]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before March 24, 2025. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-xxxx.

Title: Reporting Requirements for Commercial Television Broadcast Station Blackouts.

Form Number: N/A. Information will be collected via a FCC-hosted reporting portal. Respondents will be given notice of the specific reporting procedures by public notice before being required to submit information via the reporting portal.

Type of Review: New collection.

Respondents: Business or other for-profit entities.

Number of Respondents and Responses: 22 respondents; 264 responses.

Estimated Time per Response: 0.5 hours.

Frequency of Response: On occasion reporting requirement.

Obligation to Respond: Required to obtain or retain benefits. Statutory authority for this collection of information is contained in Sections 1, 4, 303, 325, and 403, of the Communications Act of 1934, as amended, 47 U.S.C. 151, 154, 303, 325, and 403, and section 401 of RAY BAUM'S Act of 2018, 47 U.S.C. 163.

Total Annual Burden: 132 hours.

Total Annual Cost: No cost.

Needs and Uses: On January 3, 2025, the Commission released a Report and Order (Order), FCC 24-138, in MB Docket No. 23-427, in which the Commission adopts a rule requiring that it be notified when a blackout of a broadcast television station, or stations, occurs on a video programming service offered by a multichannel video programming distributor (MVPD) for 24 hours or more due to a breakdown in retransmission consent negotiations between broadcasters and MVPDs.

Blackouts are the unfortunate result of failed retransmission consent negotiations. The Order concludes that a reporting requirement is necessary to provide information that will enable the Commission to assess the functioning of the retransmission consent process, including the effects of blackouts on competition and consumers, and inform Congress. Currently, there is no official, public source that aggregates and reports information on such blackouts. As a result, the Commission and the public do not always have access to this important information through a consistent, reliable, and systematic means. To close this information gap, the Order concludes that obtaining blackout information from MVPDs would be the most effective method for the Commission to gain timely and reliable information about broadcast station blackouts occurring across the country and allow us to better assess the functioning of the retransmission consent process consistent with our statutory obligations and the consequences of breakdowns, and to better advise Congress on the state of the retransmission consent regime and its effectiveness with respect to relevant policy goals. Blackout reports will also provide data that, when combined with other information, can inform empirical analysis of competition and consumer access to programming. In addition, the reporting will enable the Commission to provide better information on the state of the video programming markets as part of the statutorily required Communications Marketplace Report and thus will facilitate a more informed assessment of marketplace developments. The Order contains the following information collection requirements which require OMB approval.

Reporting Portal. The Order provides that the blackout information be collected through an online reporting portal that is hosted and administered by the Commission. The Order delegates to the Media Bureau the authority to issue a public notice giving Reporting Entities notice of the specific reporting procedures to submit blackout information via the reporting portal and identifying the date on which the reporting requirement would become effective. Public blackout information collected through the portal would then be available on the Commission's website.

Initial Blackout Notification. The new information collection in rule 47 CFR 76.68(a) requires Reporting Entities to submit an Initial Blackout Notification in the event of a reportable Broadcast Station Blackout lasting over 24 hours. Reporting Entities must submit the Notification within two business days after 24 hours have elapsed since the initiation of a Broadcast Station Blackout. This Notification will be available to the public and shall identify: (i) the name of the Reporting Entity; (ii) the commercial television broadcast station or stations no longer being retransmitted, including the call sign, Facility ID, the network affiliation(s), if any, of each affected primary and multicast stream, and the unaffected streams, if any; (iii) the Designated Market Area(s) in which affected subscribers reside; and (iv) the date and time of the initial interruption to programming. In addition, the new information collection in rule 47 CFR 76.68(b) requires Reporting Entities to submit an estimate of the number of subscribers affected as part of the Initial Blackout Notification. This information will be treated as presumptively confidential and will not be routinely available for public inspection.

Final Blackout Notification. The new information collection in rule 47 CFR 76.68(a) also requires Reporting Entities to submit a Final Blackout Notification, no later than two business days after the resumption of carriage to subscribers. This Notification will be available to the public and shall state, with respect to each station identified in the Initial Blackout Notification, the extent to which retransmission has resumed and include the date on which retransmission resumed.

Supplemental Reporting. Under rule 47 CFR 76.68(c), the licensee of a commercial television broadcast station may seek correction of a Reporting Entity's Initial or Final Blackout Notification if the Notification involves the station and contains a substantive error. The licensee must submit any correction notice electronically in accordance with procedures specified by the Media Bureau by public notice.

Definitions. Section 47 CFR 76.68(d) of the rule defines a “Reporting Entity” as “the multichannel video programming distributor reporting a Broadcast Station Blackout.” A “Broadcast Station Blackout” is defined as “any time an MVPD ceases retransmission of a commercial television broadcast station's signal due to a lapse of the broadcast station's consent for such retransmission.” A “reportable Broadcast Station Blackout” is defined as a “Broadcast Station Blackout lasting over 24 hours but less than three years from the Initial Blackout Notification.” For the purposes of this rule, a “commercial television broadcast station” is defined to include all commercial full power, Class A, and low power television broadcast stations.

Federal Communications Commission.
Marlene Dortch,
Secretary, Office of the Secretary.

[FR Doc. 2025-01528 Filed 1-22-25; 8:45 am]

BILLING CODE 6712-01-P